DEPARTMENT OF ENERGY

Federal Energy Regulatory Commission

Combined Notice of Filings #2

Take notice that the Commission received the following electric rate filings:

Docket Numbers: ER12-1436-012; ER10-2329-009; ER10-2740-011; ER10-2742-010; ER12-1260-011; ER13-1793-009; ER14-152-007.

Applicants: Eagle Point Power Generation LLC, Vineland Energy LLC, Elgin Energy Center, LLC, Hazle Spindle, LLC, Rocky Road Power, LLC, Stephentown Spindle, LLC, Tilton Energy LLC.

Description: Supplement to June 30, 2017 and November 17, 2017 Triennial Market-Based Rate Update Filing for the Northeast Region of the Rockland Sellers.

Filed Date: 2/13/18.

Accession Number: 20180213-5248.

Comments Due: 5 p.m. ET 3/6/18.

Docket Numbers: ER18-840-000.

Applicants: Public Service Company of Colorado.

Description: Request of Public Service Company of Colorado for Waiver of Applicable Provisions of the Formula Implementation Procedures.

Filed Date: 2/9/18.

Accession Number: 20180209-5204.

Comments Due: 5 p.m. ET 2/20/18.

Docket Numbers: ER18-852-000.

Applicants: PJM Interconnection, L.L.C.

Description: § 205(d) Rate Filing: Original ISA SA No. 4904; Queue No. AA2-119/AC1-055 to be effective 1/16/2018.

Filed Date: 2/13/18.

Accession Number: 20180213-5212.

Comments Due: 5 p.m. ET 3/6/18.

Docket Numbers: ER18-853-0000.

Applicants: California Independent System Operator Corporation.

Description: Notice of Cancellation of Physical Scheduling Plant Agreement No. 336 and Request for Waiver of Notice Requirement of California Independent System Operator Corporation.

Filed Date: 2/13/18.

Accession Number: 20180213-5292.

Comments Due: 5 p.m. ET 3/6/18.

Docket Numbers: ER18-854-000.

Applicants: Southwest Power Pool, Inc.

Description: § 205(d) Rate Filing: Revisions to Limit Financial Exposure from Transmission Customer Defaults to be effective 4/14/2018.

Filed Date: 2/13/18.

Accession Number: 20180213-5302.

Comments Due: 5 p.m. ET 3/6/18.

Docket Numbers: ER18-855-000.

Applicants: Panoche Valley Solar, LLC.

Description: Baseline eTariff Filing: Panoche Valley Solar, LLC Application for Market-Based Rate Authority to be effective 2/14/2018.

Filed Date: 2/13/18.

Accession Number: 20180213-5314.

Comments Due: 5 p.m. ET 3/6/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 13, 2018.
Nathaniel J. Davis, Sr.,
Deputy Secretary.

[FR Doc. 2018-03381 Filed 2-16-18; 8:45 am]

BILLING CODE 6717-01-P